DEPARTMENT OF AGRICULTURE

Forest Service

Establishment of Cougar Bar Purchase Unit, Nez Perce County, ID

AGENCY: Forest Service, USDA.

ACTION: Notice.

SUMMARY: On February 27, 2001, the Acting Deputy Under Secretary for Natural Resources and Environment, Department of Agriculture, created the Cougar Bar Purchase Unit. This purchase unit comprises 363.40 acres, more or less, within Nez Perce County, Idaho. A copy of the establishment document, which includes the legal description of the lands within the purchase unit, appears at the end of this notice.

EFFECTIVE DATE: Establishment of this purchase unit was effective February 27, 2001.

ADDRESSES: A copy of the map showing the purchase unit is on file and available for public inspection in the Office of the Director, Lands Staff, 4th Floor-South, Sidney R. Yates Federal Building, Forest Service, USDA, 201 14th Street, SW., Washington, DC 20250, between the hours of 8:30 a.m. and 4:30 p.m. on business days. Those wishing to inspect the map are encouraged to call ahead to (202) 205-1248 to facilitate entry into the building.

FOR FURTHER INFORMATION CONTACT: Jack Craven, Director, Lands Staff, Forest Service, USDA, P.O. Box 96090, Washington, DC 20090-6090, telephone: (202) 205-1248.

Dated: July 30, 2001.
Hilda Diaz-Soltero,
Associate Chief for Natural Resources.

BILLING CODE 3410-11-P

[FR Doc. 01-19801 Filed 8-6-01; 8:45 am]

BILLING CODE 3410-11-C